DEPARTMENT OF ENERGY

Federal Energy Regulatory Commission

Combined Notice of Filings #1

Take notice that the Commission received the following electric corporate filings:

Docket Numbers: EC15-214-000.

Applicants: Upstate New York Power Producers, Inc., Cayuga Operating Company, LLC, Somerset Operating Company, LLC.

Description: Application of Upstate New York Power Producers, Inc., et al. for Approval Under Section 203 of the Federal Power Act.

Filed Date: 9/25/15.

Accession Number: 20150925-5262.

Comments Due: 5 p.m. ET 10/16/15.

Docket Numbers: EC15-216-000.

Applicants: Buckeye Wind Energy LLC.

Description: Application for Authorization Under Section 203 of the Federal Power Act and Request for Waivers and Expedited Action of Buckeye Wind Energy LLC.

Filed Date: 9/28/15.

Accession Number: 20150928-5244.

Comments Due: 5 p.m. ET 10/19/15.

Take notice that the Commission received the following electric rate filings:

Docket Numbers: ER10-2881-022; ER10-2882-022; ER10-2883-022; ER10-2884-022; ER10-2885-022; ER10-2641-022; ER10-2663-022; ER10-2886-022; ER13-1101-017; ER13-1541-016; ER14-787-010; ER14-661-008; ER15-54-002; ER15-55-002; ER15-1475-003; ER15-2593-002.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC, SG2 Imperial Valley LLC, Lost Hills Solar, LLC, Blackwell Solar, LLC, North Star Solar, LLC, Desert Stateline LLC.

Description: Notification of Non-Material Change in Status of Alabama Power Company, et al.

Filed Date: 9/28/15.

Accession Number: 20150928-5109.

Comments Due: 5 p.m. ET 10/19/15.

Docket Numbers: ER12-162-013; ER11-3876-016; ER11-2044-016; ER15-2211-002; ER10-2611-014.

Applicants: Bishop Hill Energy II LLC, Cordova Energy Company LLC, MidAmerican Energy Company, MidAmerican Energy Services, LLC, Saranac Power Partners, L.P.

Description: Notification of Change in Status of the BHE MBR Sellers.

Filed Date: 9/28/15.

Accession Number: 20150928-5255.

Comments Due: 5 p.m. ET 10/19/15.

Docket Numbers: ER15-2245-001.

Applicants: Pacific Gas and Electric Company.

Description: Compliance filing: COPT CIRS Compliance Filing for the Migration to Tariff ID 3100 to be effective 7/23/2015.

Filed Date: 9/28/15.

Accession Number: 20150928-5001.

Comments Due: 5 p.m. ET 10/19/15.

Docket Numbers: ER15-2485-001.

Applicants: Florida Power & Light Company.

Description: Tariff Amendment: FPL on Behalf of Cedar Bay Generating Company, Limited Partnership PPA (Tolling) to be effective 9/24/2015.

Filed Date: 9/25/15.

Accession Number: 20150925-5221.

Comments Due: 5 p.m. ET 10/5/15.

Docket Numbers: ER15-2721-000.

Applicants: Arizona Public Service Company.

Description: Section 205(d) Rate Filing: Rate Schedule No. 217 Exhibit B.TTT Revision No. 2 to be effective 11/25/2015.

Filed Date: 9/25/15.

Accession Number: 20150925-5220.

Comments Due: 5 p.m. ET 10/16/15.

Docket Numbers: ER15-2722-000.

Applicants: Wheelabrator Saugus Inc.

Description: Baseline eTariff Filing: MBR Application to be effective 11/25/2015.

Filed Date: 9/25/15.

Accession Number: 20150925-5222.

Comments Due: 5 p.m. ET 10/16/15.

Docket Numbers: ER15-2723-000.

Applicants: San Diego Gas & Electric Company.

Description: Compliance filing: Cert of Concurrence LGIA Mesquite Solar 2, SDGE, and CAISO to be effective 10/21/2015.

Filed Date: 9/25/15.

Accession Number: 20150925-5223.

Comments Due: 5 p.m. ET 10/16/15.

Docket Numbers: ER15-2724-000.

Applicants: Midcontinent Independent System Operator, Inc.

Description: Section 205(d) Rate Filing: 2015-09-25_MMU ROE Adder—Protocol Filing to be effective 1/1/2015.

Filed Date: 9/25/15.

Accession Number: 20150925-5224.

Comments Due: 5 p.m. ET 10/16/15.

Docket Numbers: ER15-2725-000.

Applicants: J.P. Morgan Ventures Energy Corporation.

Description: Section 205(d) Rate Filing: Revision to market-based rate tariff to be effective 11/24/2015.

Filed Date: 9/25/15.

Accession Number: 20150925-5226.

Comments Due: 5 p.m. ET 10/16/15.

Docket Numbers: ER15-2726-000.

Applicants: Utility Contract Funding, L.L.C.

Description: Section 205(d) Rate Filing: Revisions to market-based rate tariff to be effective 11/24/2015.

Filed Date: 9/25/15.

Accession Number: 20150925-5228.

Comments Due: 5 p.m. ET 10/16/15.

Docket Numbers: ER15-2727-000.

Applicants: Phillips 66 Company.

Description: Section 205(d) Rate Filing: Amendments to Market-Based Rate Schedule to be effective 9/26/2015.

Filed Date: 9/25/15.

Accession Number: 20150925-5242.

Comments Due: 5 p.m. ET 10/16/15.

Docket Numbers: ER15-2728-000.

Applicants: Maricopa West Solar PV, LLC.

Description: Baseline eTariff Filing: Baseline—Market-Based Rate Tariff to be effective 11/1/2015.

Filed Date: 9/25/15.

Accession Number: 20150925-5247.

Comments Due: 5 p.m. ET 10/16/15.

Docket Numbers: ER15-2729-000.

Applicants: Southern California Edison Company.

Description: Section 205(d) Rate Filing: GIA and Distrib Serv Agmt SunEdison Mission Blv Pomona CA Mission I & II Project to be effective 9/29/2015.

Filed Date: 9/28/15.

Accession Number: 20150928-5129.

Comments Due: 5 p.m. ET 10/19/15.

Docket Numbers: ER15-2730-000.

Applicants: Southern California Edison Company.

Description: Section 205(d) Rate Filing: Revised Amended & Restated LGIA wtih Silver State Solar Power South, LLC to be effective 9/29/2015.

Filed Date: 9/28/15.

Accession Number: 20150928-5136.

Comments Due: 5 p.m. ET 10/19/15.

Docket Numbers: ER15-2731-000.

Applicants: Midcontinent Independent System Operator, Inc.

Description: Section 205(d) Rate Filing: 2015-09-28_SA 2840 Entergy Arkansas-Stuttgart Solar LLC GIA (J348) to be effective 9/29/2015.

Filed Date: 9/28/15.

Accession Number: 20150928-5169.

Comments Due: 5 p.m. ET 10/19/15.

Docket Numbers: ER15-2732-000.

Applicants: Alabama Power Company.

Description: Section 205(d) Rate Filing: AMEA NITSA Amendment Filing (Add Eastern Shore Centre Bank B Delivery Point) to be effective 8/28/2015.

Filed Date: 9/28/15.

Accession Number: 20150928-5193.

Comments Due: 5 p.m. ET 10/19/15.

Docket Numbers: ER15-2733-000.

Applicants: NorthWestern Corporation.

Description: Section 205(d) Rate Filing: SA 243 8th Revised—NITSA with CHS Inc. to be effective 9/29/2015.

Filed Date: 9/28/15.

Accession Number: 20150928-5239.

Comments Due: 5 p.m. ET 10/19/15.

Take notice that the Commission received the following land acquisition reports:

Docket Numbers: LA15-2-000.

Applicants: Southwestern Public Service Company.

Description: Quarterly Land Acquisition Report and Request for Waiver of Southwestern Public Service Company.

Filed Date: 9/25/15.

Accession Number: 20150925-5296.

Comments Due: 5 p.m. ET 10/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2015.
Nathaniel J. Davis, Sr.,
Deputy Secretary.

[FR Doc. 2015-25123 Filed 10-1-15; 8:45 am]

BILLING CODE 6717-01-P